DEPARTMENT OF TRANSPORTATION

Office of the Secretary

Aviation Proceedings, Agreements Filed During the Week Ending March 16, 2001

The following Agreements were filed with the Department of Transportation under the provisions of 49 U.S.C. Sections 412 and 414. Answers may be filed within 21 days after the filing of the application.

Docket Number: OST-2001-9133.

Date Filed: March 12, 2001.

Parties: Members of the International Air Transport Association.

Subject:

PTC2 AFR 0101 dated March 2, 2001

TC2 Within Africa Resolutions r1-r27

Minutes—PTC2 AFR 0102 dated March 9, 2001

Tables—PTC2 AFR FARES 0039 dated March 9, 2001

TC2 Within Africa Specified Fares Tables

Intended effective date: May 1, 2001.

Docket Number: OST-2001-9170.

Date Filed: March 13, 2001.

Parties: Members of the International Air Transport Association.

Subject:

PTC2 EUR-AFR 0130 dated March 9, 2001

TC2 Europe-Africa Resolutions r1-r42

Minutes—PTC2 EUR-AFR 0131 dated March 13, 2001

Tables—PTC2 EUR-AFR FARES 0087 dated March 13, 2001

Intended effective date: 1 May 2001.

Docket Number: OST-2001-9176.

Date Filed: March 14, 2001.

Parties: Members of the International Air Transport Association.

Subject:

PTC12 SATL-EUR 0071 dated February 9, 2001

South Atlantic-Europe Resolutions r1-r14

PTC12 SATL-EUR 0072 dated February 13, 2001

South Atlantic-Europe Resolutions r15-r16

Minutes—PTC12 SATL-EUR 0073 dated March 13, 2001

Tables—PTC12 SATL-EUR FARES 0021 dated February 13, 2001

PTC12 SATL-EUR FARES 0022 dated February 13, 2001

Intended effective date: April 1, 2001.

Dorothy Y. Beard,
Federal Register Liaison.

[FR Doc. 01-7427 Filed 3-23-01; 8:45 am]

BILLING CODE 4910-62-P